DEPARTMENT OF TRANSPORTATION

Federal Aviation Administration

Waiver of Aeronautical Land Use Assurance: Wichita Dwight D. Eisenhower National Airport (ICT), Wichita, KS

AGENCY: Federal Aviation Administration (FAA), DOT.

ACTION: Notice of intent of waiver with respect to land use change from aeronautical to non-aeronautical.

SUMMARY: The Federal Aviation Administration (FAA) is considering a proposal from the Wichita Airport Authority, Wichita, KS, to release two parcels of land including a 20 acre parcel and a 4.176 acre parcel of land from the federal obligation dedicating it to aeronautical use and to authorize these parcels to be used for revenue-producing, non-aeronautical purposes.

DATES: Comments must be received on or before July 10, 2023.

ADDRESSES: Comments on this application may be mailed or delivered to the FAA at the following address: Amy J. Walter, Airports Land Specialist, Federal Aviation Administration, Airports Division, ACE-620G, 901 Locust Room 364, Kansas City, MO 64106.

In addition, one copy of any comments submitted to the FAA must be mailed or delivered to: John Oswald, Airport Engineering & Planning Manager, Wichita Airport Authority, 2173 Air Cargo Road, Wichita, KS 67209, (316) 946-4700.

FOR FURTHER INFORMATION CONTACT: Amy J. Walter, Airports Land Specialist, Federal Aviation Administration, Airports Division, ACE-620G, 901 Locust Room 364, Kansas City, MO 64106, Telephone number (816) 329-2603, Fax number (816) 329-2611, email address: amy.walter@faa.gov.

SUPPLEMENTARY INFORMATION: The FAA invites public comment on the request to change two parcels of land totaling 24.176 acres of airport property at the Wichita Dwight D. Eisenhower National Airport (ICT) from aeronautical use to non-aeronautical for revenue producing use. These parcels will be developed for commercial use with no airfield access.

No airport landside or airside facilities are presently located on these parcels, nor are airport developments contemplated in the future. There is no current use of the surface of the parcel. The parcel will serve as a revenue producing lot with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The Wichita Dwight D. Eisenhower National Airport (ICT) is proposing the use release of two parcels of land totaling 24.176 acres from aeronautical to non-aeronautical. The use release of land is necessary to comply with Federal Aviation Administration Grant Assurances that do not allow federally acquired airport property to be used for non-aviation purposes. The rental of the subject property will result in the land at the Wichita Dwight D. Eisenhower National Airport (ICT) being changed from aeronautical to non-aeronautical use and release the lands from the conditions of the Airport Improvement Program Grant Agreement Grant Assurances. In accordance with 49 U.S.C. 47107(c)(2)(B)(i) and (iii), the airport will receive fair market rental value for the property. The annual income from rent payments will generate a long-term, revenue-producing stream that will further the Sponsor's obligation under FAA Grant Assurance number 24, to make the Wichita Dwight D. Eisenhower National Airport as financially self-sufficient as possible. Following is a legal description of the subject airport property at the Wichita Dwight D. Eisenhower National Airport (ICT):

The south 1140.60 feet of the East half of the Southeast Quarter of Section 28, Township 27 South, Range 1 West of the 6th P.M., Sedgwick County, Kansas, except the West 500 feet thereof and also except that part dedicated for highway right-of-way found on Film 311, Page 147, and also except the South 30 feet and the East 30 feet for road right-of-way. More particularly described as: Beginning at the Southeast corner of Section 28, Township 27 South, Range 1 West of the 6th P.M.; thence bearing N 90°00′00″ W along the South line of said Section 28 a distance of 441.10 feet; thence bearing N 0°29′30″ E a distance of 561.16 feet; thence bearing N 04°45′30″ W a distance of 581.40 feet to the North line of the South 1140.60 feet of said Southeast Quarter; thence bearing N 89°59′57″ E along the North line of the South 1140.60 feet a distance of 494.83 feet to the East line of said Section 28; thence bearing S 0°31′20″ W along the East line of said Section 28 a distance of 1140.60 feet to the point of beginning; except the East 30 feet and the South 30 feet thereof.

AND

Beginning One Thousand One Hundred Forty and Six Tenths feet (1,140.6′) north of the SE corner of the SE ¼ of Section 28-T27S-R1W, thence west One Thousand Three Hundred Twenty and Forty-eight Hundredths feet (1,320.48′) to the west line of the east half of said SE ¼, thence north on said west line Two Hundred Seventy-four and Six Tenths feet (274.6′) to a point on the south Right-Of-Way line of the Atchison-Topeka & Santa Fe Railway Company, thence ENE along said Railway Right-Of-Way line One Thousand Three Hundred Twenty-eight and Nine Hundredths feet (1,328.09′) to a point on the east line of said SE ¼ and on the south Right-Of-Way line of said Railway Company, thence south Four Hundred Two and Sixty-five Hundredths feet (402.65′) to point of beginning, all in said SE ¼, Section 28-T27S-R1W.

Any person may inspect, by appointment, the request in person at the FAA office listed above. In addition, any person may upon request, inspect the application, notice and other documents determined by the FAA to be related to the application in person at the Wichita Dwight D. Eisenhower National Airport.

Issued in Kansas City, MO, on June 5, 2023.
James A. Johnson,
Director, FAA Central Region, Airports Division.

[FR Doc. 2023-12298 Filed 6-8-23; 8:45 am]

BILLING CODE 4910-13-P